DEPARTMENT OF ENERGY

Federal Energy Regulatory Commission

[Docket No. EL00-95-000; EL00-98-000]

San Diego Gas & Electric Company, Complainant v. Sellers of Energy and Ancillary Services Into Markets Operated by the California Independent System Operator and the California Power Exchange, Respondents; Investigation of Practices of the California Independent System Operator and the California Power Exchange; Notice of Technical Conference

March 20, 2002.

The Federal Energy Regulatory Commission Staff is convening a technical conference to facilitate a discussion between the California Independent System Operator Corporation (CAISO), market participants, state agencies and other interested participants on the development of a revised market design for the CAISO. The conference will held in San Francisco, California, at the Renaissance Parc 55 Hotel, 55 Cyril Magnin Street, San Francisco, CA, on April 4 and 5, 2002, beginning at 9 a.m. This technical conference is to assist the CAISO in preparation of its May 1, 2002, filing, as required by Commission order 97 FERC 61,275 (2001).

For additional information concerning the conference, interested persons may contact Robert Pease at (202) 208-0131 or by electronic mail at “robert.pease@ferc.gov.” No telephone communication bridge will be provided at this technical conference.

Magalie R. Salas,
Secretary.

[FR Doc. 02-7306 Filed 3-26-02; 8:45 am]

BILLING CODE 6717-01-P